DEPARTMENT OF HOUSING AND URBAN DEVELOPMENT

[Docket No. FR-4922-N-03]

Privacy Act of 1974; Notice of Matching Program: Matching Tenant Data in Assisted Housing Programs

AGENCY: Office of the Chief Information Officer, HUD.

ACTION: Notice of a computer matching program between the Department of Housing and Urban Development (HUD) and the Office of Personnel Management (OPM).

SUMMARY: Pursuant to the Computer Matching and Privacy Protection Act of 1988, as amended, and the Office of Management and Budget's (OMB) Guidance on the statute, HUD is updating its notice of a matching program involving comparisons between income data provided by applicants or participants in HUD's assisted housing programs and independent sources of income information. The matching program will be carried out to detect inappropriate (excessive or insufficient) housing assistance under the National Housing Act, the United States Housing Act of 1937, section 101 of the Housing and Community Development Act of 1965, the Native American Housing Assistance and Self-Determination Act of 1996, and the Quality Housing and Work Responsibility Act of 1998. The program provides for the verification of the matching results and the initiation of appropriate administrative or legal actions.

This notice supplements the overview of computer matching for HUD's assisted housing programs published in the Federal Register on March 9, 2004 (69 FR 11033). The March notice describes HUD's program for computer matching of its tenant data to: (a) The Social Security Administration's (SSA's) earned income and the Internal Revenue Service's (IRS's) unearned income data, (b) SSA's wage, social security, supplemental security income and special veterans benefits data, (c) State Wage Information Collection Agencies' (SWICAs') wage and unemployment benefit claim information. This notice describes HUD's program for computer matching of its tenant data to OPM's personnel data.

DATES: Effective Date: Computer matching is expected to begin November 24, 2004 unless comments are received which will result in a contrary determination, or 40 days from the date a computer matching agreement is signed, whichever is later.

Comments Due Date: November 24, 2004.

ADDRESSES: Interested persons are invited to submit comments regarding this notice to the Rules Docket Clerk, Office of General Counsel, Room 10276, Department of Housing and Urban Development, 451 Seventh Street, SW., Washington, DC 20410-0500. Communications should refer to the above docket number and title. Facsimile (FAX) comments are not acceptable. A copy of each communication submitted will be available for public inspection and copying between 8 a.m. and 5 p.m. weekdays at the above address.

FOR FURTHER INFORMATION CONTACT: For Privacy Act: Jeanette Smith, Departmental Privacy Act Officer, Room P8001, Department of Housing and Urban Development, 451 Seventh Street, SW., Washington, DC 20410—telephone number (202) 708-2374. A telecommunications device for hearing- and speech-impaired individuals (TTY) is available at 1-800-877-8339 (Federal Information Relay Service).

For further information from recipient agency: Bryan Saddler, Counsel to the Inspector General, Department of Housing and Urban Development, 451 Seventh Street, SW., Room 8260, Washington, DC 20410-4500, (202) 708-1613.

SUPPLEMENTARY INFORMATION: The Computer Matching and Privacy Protection Act (CMPPA) of 1988, an amendment to the Privacy Act of 1974 (5 U.S.C. 552a), OMB's guidance on this statute entitled “Final Guidance Interpreting the Provisions of Public Law 100-503, the CMPPA of 1988” (OMB Guidance), and OMB Circular No. A-130 requires publication of notices of computer matching programs. Appendix I to OMB's Revision of Circular No. A-130, “Transmittal Memorandum No. 4, Management of Federal Information Resources,” prescribes federal agency responsibilities for maintaining records about individuals. In compliance with the CMPPA and Appendix I to OMB Circular No. A-130, copies of this notice are being provided to the Committee on Government Reform and Oversight of the House of Representatives, the Committee on Governmental Affairs of the Senate, and OMB's Office of Information and Regulatory Affairs.

I. Authority

This matching program is being conducted pursuant to sections 3003 and 13403 of the Omnibus Budget Reconciliation Act of 1993 (Pub. L. 103-66, approved August 10, 1993); section 542(b) of the 1998 Appropriations Act (Pub. L. 105-65); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); and the Quality Housing and Work Responsibility Act of 1998 (42 U.S.C. 1437a(f)); the Inspector General Act of 1978 (5 U.S.C. App. 3); and 65 FR 24732 and 64 FR 54930.

The Omnibus Budget Reconciliation Act of 1993 (Budget Reconciliation Act) authorizes HUD to request from the SSA and the IRS federal tax information as prescribed in section 6103(l)(7) of title 26 of the United States Code (Internal Revenue Code). Section 542(b) of HUD's 1998 Appropriation Act (Pub. L. 105-65; October 27, 1997) eliminated a September 30, 1998, sunset provision to 26 U.S.C. 6103(l)(7)(D)(ix) of the Internal Revenue Code, effectively making permanent the authority for SSA and IRS disclosures of federal tax information to HUD.

Section 3003 of the Budget Reconciliation Act authorizes HUD to require applicants and participants in assisted housing programs sign a consent form authorizing the Secretary of HUD to request that the Commissioner of Social Security and the Secretary of the Treasury release the federal tax information. The final rule regarding participants' consent to the release of information was published by HUD in the Federal Register on March 20, 1995 (61 FR 11112).

The Stewart B. McKinney Homeless Assistance Amendments Act of 1988 authorizes HUD and Public Housing Agencies (but not private owners/management agents for subsidized multifamily projects (hereafter collectively referred to as “POAs”)) to request wage and claim information from SWICAs responsible for administering state unemployment laws in order to undertake computer matching. This Act authorizes HUD to require applicants and participants to sign a consent form authorizing HUD or the POA to request wage and claim information from the SWICAs.

The Housing and Community Development Act of 1987 authorizes HUD to require applicants and participants (as well as members of their household six years of age and older) in HUD-administered programs involving rental assistance to disclose to HUD their social security numbers (SSNs) as a condition of initial or continuing eligibility for participation in the programs.

The Quality Housing and Work Responsibility Act of 1998 (QHWRA), section 508(d), 42 U.S.C. 1437a(f) authorizes the Secretary of HUD to require disclosure by the tenant to the public housing agency of income information received by the tenant from HUD as part of income verification procedures of HUD. The QHWRA was amended by Public Law 106-74, which extended the disclosure requirements to participants in section 8, section 202, and section 811 assistance programs. The participants are required to disclose the HUD-provided income information to owners responsible for determining the participants' eligibility or level of benefits.

The Inspector General Act authorizes the HUD Inspector General to undertake programs to detect and prevent fraud and abuse in all HUD programs.

The OPM's disclosure of income data on current and retired federal employees is authorized by subsection (b)(3) of the Privacy Act of 1974, 5 U.S.C. 552a(b)(3). The disclosures from the OPM/GOVT-1 system will be made pursuant to routine use “hh” and the disclosures from the OPM/Central-1 will be made pursuant to routine use “s” and “ff.” See 65 FR 24732 and 64 FR 54930, respectively. The routine uses permit disclosure to agencies to help eliminate fraud and abuse in federal benefits programs.

II. Objectives To Be Met by the Matching Program

HUD's primary objective in implementing the computer matching program is to increase the availability of rental assistance to individuals who meet the requirements of the rental assistance programs. Other objectives include determining the appropriate level of rental assistance, and deterring and correcting abuse in assisted housing programs. In meeting these objectives HUD also is carrying out a responsibility under 42 U.S.C. 1437f(K) to ensure that income data provided to POAs by household members is complete and accurate.

HUD's various assisted housing programs, available through POAs, require that applicants meet certain income and other criteria to be eligible for rental assistance. In addition, tenants generally are required to report the amounts and sources of their income at least annually. However, under the QHWRA of 1998, public housing agencies may now offer tenants the option to pay a flat rent, or an income-based rent. Those tenants who select a flat rent will be required to recertify income at least every three years. In addition, the Changes to the Admissions and Occupancy Final Rule (March 29, 2000, 65 FR 16692) specified that household composition must be recertified annually for tenants who select a flat rent or income-based rent.

The matching program identifies tenants receiving inappropriate (excessive or insufficient) rental assistance resulting from under or over-reported household income. When excessive rental assistance amounts are identified, some tenants move out of assisted housing units; other tenants agree to repay excessive rental assistance. These actions may increase rental assistance or number of units available to serve other beneficiaries of HUD programs. When tenants continue to be eligible for rental assistance, but at a reduced level, the tenants will be required to increase their contributions toward rent.

III. Program Description

This computer matching program, to the extent that it involves the use of SSA, IRS or SWICA data is fully described at 69 FR 11033. With respect to OPM data, the objectives of the matching program will be accomplished by comparing income data for individuals participating in HUD's assisted housing programs and subsidized multifamily housing programs with wage, unemployment, benefit, salary, and retirement data maintained by OPM in its systems of records known as the Central Personnel Data File (OPM/GOVT-1, General Personnel Records System), last published on April 27, 2000 (65 FR 24732); and the Annuity Roll Systems (OPM/Central-1, Civil Service Retirement and Insurance Records), last published as 64 FR 54930 (October 8, 1999), as amended on May 3, 2000 (65 FR 25775). Specifically, HUD will compare the OPM income data to tenant-reported income data included in HUD's systems of records known as the Tenant Assistance and Contract Verification Data (HUD/H-11) and the Public and Indian Housing Information Center (HUD/PIH-4). The notices for these systems were published at 65 FR 52777 and 67 FR 20986, respectively. The tenant income comparisons identify, based on criteria established by HUD, tenants whose incomes require further verification to determine if the tenants received appropriate levels of rental assistance.

A. Income Verification

Any match (i.e., a “hit”) will be further reviewed by HUD, the POA, or the HUD Office of Inspector General (OIG) to determine whether the income reported by tenants to the POA is correct and complies with HUD and POA requirements. Specifically, current or prior wage information and other data will be sought directly from employers.

B. Administrative or Legal Actions

Regarding all the matching described in this notice, HUD anticipates that POAs will take appropriate action in consultation with tenants to: (1) Resolve income disparities between tenant-reported and independent income source data, and (2) use correct income amounts in determining housing rental assistance.

POAs must compute the rent in full compliance with all applicable occupancy regulations. POAs must ensure that they use the correct income and correctly compute the rent.

The POAs may not suspend, terminate, reduce, or make a final denial of any housing assistance to any tenant as the result of information produced by this matching program until: (a) The tenant has received notice from the POA of its findings and informing the tenant of the opportunity to contest such findings and (b) either the notice period provided in applicable regulations of the program, or 30 days, whichever is later, has expired. In most cases, POAs will resolve income discrepancies in consultation with tenants.

Additionally, serious violations, which POAs, HUD Program staff, or HUD OIG verify, should be referred for full investigation and appropriate civil and/or criminal proceedings.

IV. Records To Be Matched

This computer matching program, to the extent that it involves the use of SSA, IRS or SWICA data is fully described at 69 FR 11033. With respect to OPM data, the match will involve tenant records obtained directly from POAs and subsidized multifamily projects included in HUD/H-11, Tenant Assistance and Contract Verification Data and HUD/PIH-4, Public and Indian Housing Information Center Files (HUD/PIH-4). These records contain information about individuals who are participants in the federal low income and Section 8 housing assistance programs. The OPM will provide HUD with extract files from the OPM/GOVT-1 and OPM/Central-1 systems. The notice for these systems was published at 65 FR 24732 and 64 FR 54930, respectively. The disclosure from OPM/GOVT-1 will be made in accordance with routine use “hh” and the disclosure from OMP/Central-1 will be made in accordance with routine uses “s” and “ff.” HUD will match the tenant records to these OPM records on current and retired federal employees to compare tenant reported income.

The tenant records (one record for each family member) includes these data elements: (1) SSNs for each family member; (2) family control number to identify each tenant with a particular family; (3) Head of Household Indicator; (4) Last Name, First Name, Middle Initial, and Address for household; (5) Sex; (6) Birth Date; (7) Reported Income by source, description and amount; (8) Program Code; and (9) Recertification Date. For matched employees SSNs (i.e., “hits”), HUD will extract the following information from OPM/GOVT-1: SSN, Date of Birth, Name, Sex, Work schedule, Annual Salary, Location Code, Standard Metropolitan Statistical Area, Submitting Office Number (SON), Agency Code, and File Date. HUD will extract the following information from OPM/Central-1: File ID, SSN, Date of Birth, Sex, Last name, Annualized Salary, Annuity Commence Date, Pay Status, OPM Claim Number, Health Benefit Enrollment Code, Date of Death, Zip Code, Contact Address, and “As of” Date of File. In addition, HUD will use the SON Master File to obtain the address of the agencies so that employer verification letters can be sent to such agencies. This information includes: SON, Agency Code and sub-element, SON name and address, zip code, and File Date.

V. Period of the Match

The computer matching program will be conducted according to agreements between HUD and the SSA, IRS, OPM, and SWICA. The computer matching agreements for the planned matches will terminate either when the purpose of the computer matching program is accomplished, or 18 months from the date the agreement is signed, whichever comes first.

The agreements may be extended for one 12-month period, with the mutual agreement of all involved parties, if the following conditions are met:

(1) Within 3 months of the expiration date, all Data Integrity Boards review the agreement, find that the program will be conducted without change, and find a continued favorable examination of benefit/cost results; and

(2) All parties certify that the program has been conducted in compliance with the agreement. The agreement may be terminated, prior to accomplishment of the computer matching purpose or 18 months from the date the agreement is signed (whichever comes first), by the mutual agreement of all involved parties within 30 days of written notice.

Dated: October 6, 2004.
Carolyn Cockrell,
Acting Chief Technology Officer.

[FR Doc. E4-2806 Filed 10-22-04; 8:45 am]

BILLING CODE 4210-27-P